DEPARTMENT OF COMMERCE

International Trade Administration

[A-533-867]

Welded Stainless Pressure Pipe From India: Preliminary Results and Partial Rescission of Antidumping Duty Administrative Review; 2020-2021

AGENCY: Enforcement and Compliance, International Trade Administration, Department of Commerce.

SUMMARY: The U.S. Department of Commerce (Commerce) preliminarily finds that Ratnamani Metals & Tubes Ltd. (Ratnamani) made sales of subject merchandise at less than normal value (NV) in the United States during the November 1, 2020, through October 31, 2021, period of review (POR). We are also rescinding this review for Hindustan Inox, Ltd. (Hindustan Inox) where timely requests for withdrawal were filed by the party who requested its review. We invite interested parties to comment on these preliminary results.

DATES: Applicable December 6, 2022.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On November 17, 2016, Commerce published the antidumping duty order in the Federal Register.¹ On December 28, 2021, pursuant to section 751(a)(1) of the Tariff Act of 1930, as amended (the Act), Commerce initiated an administrative review of the Order.² On July 19, 2022, we extended the deadline for the preliminary results to November 30, 2022.³

¹ See Welded Stainless Pressure Pipe from India: Antidumping and Countervailing Duty Orders, 81 FR 81062 (November 17, 2016) (Order).

² See Initiation of Antidumping Duty and Countervailing Duty Administrative Reviews, 86 FR 73734 (December 28, 2021) (Initiation Notice).

³ See Memorandum, “Extension of Deadline for the Preliminary Results,” dated July 19, 2022.

Commerce initiated this administrative review covering the following companies: Apex Tubes Private Ltd.; Apurvi Industries; Arihant Tubes; Divine Tubes Pvt. Ltd.; Heavy Metal & Tubes; Hindustan Inox; J.S.S. Steelitalia Ltd.; Linkwell Seamless Tubes Private Limited; Maxim Tubes Company Pvt. Ltd.; MBM Tubes Pvt. Ltd.; Mukat Tanks & Vessel Ltd.; Neotiss Ltd.; Prakash Steelage Ltd.; Quality Stainless Pvt. Ltd.; Raajratna Metal Industries Ltd.; Ratnadeep Metal & Tubes Ltd.; Ratnamani; Remi Edelstahl Tubulars; Shubhlaxmi Metals & Tubes Private Limited; SLS Tubes Pvt. Ltd.; and Steamline Industries Ltd.⁴

⁴ See Initiation Notice, 86 FR at 73736.

On January 25, 2022, we limited the number of respondents selected for individual examination in this administrative review to Hindustan Inox and Ratnamani.⁵ We did not select the remaining companies for individual examination, and these companies remain subject to this administrative review.

⁵ See Memorandum, “Respondent Selection,” dated January 25, 2022.

Scope of the Order

The products covered by the scope of the Order are welded stainless pressure pipe from India. For a complete description of the scope, see the Preliminary Decision Memorandum.⁶

⁶ See Memorandum, “Decision Memorandum for the Preliminary Results and Partial Recission of the Administrative Review of the Antidumping Duty Order on Welded Stainless Pressure Pipe from India; 2020-2021,” dated concurrently with, and hereby adopted by, this notice (Preliminary Decision Memorandum).

Methodology

Commerce is conducting this review in accordance with section 751(a)(2) of the Act. Export price was calculated in accordance with section 772 of the Act. Normal value was calculated in accordance with section 773 of the Act. For a full description of the methodology underlying our conclusions, see the Preliminary Decision Memorandum. A list of topics included in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Partial Rescission of Administrative Review

Pursuant to 19 CFR 351.213(d)(1), Commerce will rescind an administrative review, in whole or in part, if the parties that requested a review withdraw the request within 90 days of the date of publication of the notice of initiation. Commerce received a timely-filed withdrawal request from Felker Brothers Corporation (the petitioner), on March 28, 2022, withdrawing its request for Hindustan Inox.⁷ Because the withdrawal request was timely filed, and no other party requested a review of the company, in accordance with 19 CFR 351.213(d)(1), Commerce is rescinding this review of the Order with respect to Hindustan Inox.

⁷ See Petitioner's Letter, “Partial Withdrawal of Request for Administrative Review,” dated March 28, 2022.

Non-Individually Examined Companies

For the rate for non-selected companies in an administrative review, generally, Commerce looks to section 735(c)(5) of the Act, which provides instructions for calculating the all-others rate in a market economy investigation. Under section 735(c)(5)(A) of the Act, the all-others rate is normally “an amount equal to the weighted average of the estimated weighted-average dumping margins established for exporters and producers individually investigated, excluding any zero or de minimis margins, and any margins determined entirely {on the basis of facts available}.” We preliminarily calculated a margin for Ratnamani that was not zero, de minimis, or based on facts available. Accordingly, we have preliminarily applied the margin calculated for Ratnamani to the non-selected companies.

Preliminary Results of Review

We preliminarily determine that, for the period November 1, 2020, through October 31, 2021, the following weighted-average dumping margins exist:

Exporter/producer | Weighted- average dumping margin (percent)
Ratnamani Metals & Tubes Ltd | 34.32
Non-Selected Companies ⁸ | 34.32

Disclosure and Public Comment

⁸ See Appendix II for a full list of companies not individually examined in this review.

We intend to disclose the calculations performed for these preliminary results to parties within five days after the date of publication of this notice.⁹

⁹ See 19 CFR 351.224(b).

Pursuant to 19 CFR 351.309(c), interested parties may submit case briefs not later than 30 days after the date of publication of this notice.¹⁰ Rebuttal briefs, limited to issues raised in the case briefs, may be filed not later than seven days after the date for filing case briefs.¹¹ Parties who submit case or rebuttal briefs in this proceeding are encouraged to submit with each argument: (1) a statement of the issue; (2) a brief summary of the argument; and (3) a table of authorities.¹² Case and rebuttal briefs should be filed using ACCESS.¹³ Note that Commerce has temporarily modified certain of its requirements for serving documents containing business proprietary information, until further notice.¹⁴

¹⁰ See 19 CFR 351.309(c)(1)(ii).

¹¹ See 19 CFR 351.309(d)(1).

¹² See 19 CFR 351.309(c)(2) and (d)(2).

¹³ See 19 CFR 351.303.

¹⁴ See Temporary Rule Modifying AD/CVD Service Requirements Due to COVID-19; Extension of Effective Period, 85 FR 41363 (July 10, 2020).

Interested parties who wish to request a hearing must submit a written request to the Assistant Secretary for Enforcement and Compliance within 30 days of the date of publication of this notice.¹⁵ Requests should contain: (1) the party's name, address and telephone number; (2) the number of participants; and (3) a list of issues parties intend to discuss. Issues raised in the hearing will be limited to those raised in the respective case and rebuttal briefs. If a request for a hearing is made, Commerce intends to hold the hearing at a time and date to be determined. Parties should confirm by telephone the date, time, and location of the hearing two days before the scheduled date.

¹⁵ See 19 CFR 351.310(c).

Unless extended, we intend to issue the final results of this administrative review, which will include the results of our analysis of all issues raised in the case and rebuttal briefs, within 120 days of publication of these preliminary results in the Federal Register, pursuant to section 751(a)(3)(A) of the Act, unless extended.

Assessment Rates

Upon completion of the administrative review, Commerce shall determine, and U.S. Customs and Border Protection (CBP) shall assess, antidumping duties on all appropriate entries. If the weighted-average dumping margin for Ratnamani is not zero or de minimis (i.e., less than 0.50 percent) in the final results of this review, we will calculate importer-specific ad valorem duty assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties, in accordance with 19 CFR 351.106(c)(2). If a respondent's weighted-average dumping margin is zero or de minimis in the final results of review, we will instruct CBP to liquidate the appropriate entries without regard to antidumping duties, in accordance with the Final Modification for Reviews, i.e., “{w}here the weighted-average margin of dumping for the exporter is determined to be zero or de minimis, no antidumping duties will be assessed.” ¹⁶ For entries of subject merchandise during the POR produced by each respondent for which the producer did not know its merchandise was destined for the United States, we will instruct CBP to liquidate unreviewed entries at the all-others rate if there is no rate for the intermediate company (or companies) involved in the transaction.¹⁷

¹⁶ See Antidumping Proceedings: Calculation of the Weighted-Average Dumping Margin and Assessment Rate in Certain Antidumping Proceedings; Final Modification, 77 FR 8101, 8102 (February 14, 2012) (Final Modification for Reviews).

¹⁷ See Antidumping and Countervailing Duty Proceedings: Assessment of Antidumping Duties, 68 FR 23954 (May 6, 2003).

For the companies which were not individually examined, we intend to assign an assessment rate based on the review-specific average rate, calculated as noted in the “Preliminary Results of Review” section, above. The final results of this review shall be the basis for the assessment of antidumping duties on entries of merchandise covered by this review and for future deposits of estimated duties, where applicable.¹⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁸ See section 751(a)(2)(C) of the Act.

Cash Deposit Requirements

The following deposit requirements will be effective upon the publication of the final results of this administrative review for all shipments of the subject merchandise entered, or withdrawn from warehouse, for consumption on or after the publication date of the final results of this administrative review, as provided by section 751(a)(2)(C) of the Act: (1) the cash deposit rate for each specific company listed above will be that established in the final results of this administrative review, except if the rate is less than 0.50 percent and, therefore, de minimis within the meaning of 19 CFR 351.106(c)(1), in which case the cash deposit rate will be zero; (2) for previously reviewed or investigated companies not listed above, the cash deposit rate will continue to be the company-specific rate published for the most recently completed segment of this proceeding in which the producer or exporter participated; (3) if the exporter is not a firm covered in this review, a prior review, or the investigation but the producer is, the cash deposit rate will be the rate established for the most recently completed segment of this proceeding for the producer of the merchandise; and (4) the cash deposit rate for all other producers or exporters will continue to be the all-others rate of 8.35 percent.¹⁹ These cash deposit requirements, when imposed, shall remain in effect until further notice.

¹⁹ See Order, 81 FR at 81063.

Notification to Importers

This notice also serves as a preliminary reminder to importers of their responsibility under 19 CFR 351.402(f)(2) to file a certificate regarding the reimbursement of antidumping and/or countervailing duties prior to liquidation of the relevant entries during this review period. Failure to comply with this requirement could result in the Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act and 19 CFR 351.221(b)(4).

Dated: November 29, 2022.
Lisa W. Wang,
Assistant Secretary for Enforcement and Compliance.

Appendix I

List of Topics Discussed in the Preliminary Decision Memorandum

I. Summary

II. Background

III. Scope of the Order

IV. Partial Rescission of Review

V. Companies Not Selected for Individual Examination

VI. Discussion of the Methodology

VII. Currency Conversion

VIII. Recommendation

Appendix II

List of Companies Not Selected for Individual Examination

1. Apex Tubes Private Ltd.

2. Apurvi Industries

3. Arihant Tubes

4. Divine Tubes Pvt. Ltd.

5. Heavy Metal & Tubes

6. J.S.S. Steelitalia Ltd.

7. Linkwell Seamless Tubes Private Limited

8. Maxim Tubes Company Pvt. Ltd.

9. MBM Tubes Pvt. Ltd.

10. Mukat Tanks & Vessel Ltd.

11. Neotiss Ltd.

12. Prakash Steelage Ltd.

13. Quality Stainless Pvt. Ltd.

14. Raajratna Metal Industries Ltd.

15. Ratnadeep Metal & Tubes Ltd.

16. Remi Edelstahl Tubulars

17. Shubhlaxmi Metals & Tubes Private Limited

18. SLS Tubes Pvt. Ltd.

19. Steamline Industries Ltd.

[FR Doc. 2022-26449 Filed 12-5-22; 8:45 am]

BILLING CODE 3510-DS-P